POSTAL REGULATORY COMMISSION

Sunshine Act Meetings

TIME AND DATE: March 30, 2015, at 11 a.m.

PLACE: Commission hearing room, 901 New York Avenue NW., Suite 200, Washington, DC 20268-0001.

STATUS: The Postal Regulatory Commission will hold a public meeting to discuss the agenda items outlined below. Part of the meeting will be open to the public as well as audiocast, and the audiocast may be accessed via the Commission's Web site at http://www.prc.gov. Part of the meeting will be closed.

MATTERS TO BE CONSIDERED: The agenda for the Commission's March 30, 2015 meeting includes the items identified below.

PORTIONS OPEN TO THE PUBLIC:

1. Report from the Office of Public Affairs and Government Relations.

2. Report from the Office of General Counsel.

3. Report from the Office of Accountability and Compliance.

PORTIONS CLOSED TO THE PUBLIC:

4. Discussion of pending litigation.

CONTACT PERSON FOR MORE INFORMATION: David A. Trissell, General Counsel, Postal Regulatory Commission, 901 New York Avenue NW., Suite 200, Washington, DC 20268-0001, at 202-789-6820 (for agenda-related inquiries) and Shoshana M. Grove, Secretary of the Commission, at 202-789-6800 or shoshana.grove@prc.gov (for inquiries related to meeting location, changes in date or time of the meeting, access for handicapped or disabled persons, the audiocast, or similar matters). The Commission's Web site may also provide information on changes in the date or time of the meeting.

By direction of the Commission.
Shoshana M. Grove,
Secretary.

[FR Doc. 2015-06506 Filed 3-18-15; 11:15 am]

BILLING CODE 7710-FW-P